INTERNATIONAL TRADE COMMISSION

[Investigation No. 337-TA-1303]

Certain Products Containing Pyraclostrobin and Components Thereof; Notice of a Commission Determination Not To Review an Initial Determination Terminating the Investigation in Its Entirety Based Upon a Consent Order Stipulation; Issuance of Consent Orders; Termination of Investigation

AGENCY: U.S. International Trade Commission.

ACTION: Notice.

SUMMARY: Notice is hereby given that the U.S. International Trade Commission has determined not to review initial determinations (“ID”) (Order No. 5) of the presiding chief administrative law judge (“ALJ”) terminating the investigation in its entirety based upon a consent order stipulation. The Commission has entered consent orders against the respondents.

FOR FURTHER INFORMATION CONTACT: Panyin A. Hughes, Office of the General Counsel, U.S. International Trade Commission, 500 E Street SW, Washington, DC 20436, telephone 202-205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On March 2, 2022, the Commission instituted this investigation based on a complaint filed by BASF SE of Ludwigshafen, Germany and BASF Corporation of Florham Park, New Jersey (collectively, “BASF”). 87 FR 11730-31 (Mar. 2, 2022). The complaint alleged violations of section 337 of the Tariff Act of 1930, as amended, 19 U.S.C. 1337, based on the importation into the United States, the sale for importation, or the sale within the United States after importation of certain products containing pyraclostrobin and components thereof by reason of infringement of claims 1-17 of U.S. Patent No. 7,816,392. Id. The Commission's notice of investigation named the following entities as respondents: Sharda Cropchem Ltd. of Mumbai, India; and Sharda USA LLC, of Norristown, Pennsylvania (collectively, “Sharda”). The Office of Unfair Import Investigations was not named as a party in this investigation. Id.

On March 4, 2022, Sharda moved to terminate the investigation in its entirety based on a consent order stipulation and entry of consent orders. On March 14, 2022, BASF filed a statement of non-opposition to Sharda's motion.

On March 16, 2022, the ALJ issued the subject ID (Order No. 5) granting the motion. The ID noted that “Sharda certifies that `there are no other agreements, written or oral, express or implied between the parties concerning the subject matter of the Investigation.' ” Order No. 5 at 1. The ID found that the consent order stipulation and proposed consent orders comply with Commission Rule 210.21(c)(3) and (4) (19 CFR 210.21(c)(3) and (4)). Id. at 1-2. The ID further found that terminating the investigation would not be contrary to the public interest. Id. at 2.

The Commission has determined not to review the subject ID and to issue consent orders. The investigation is hereby terminated in its entirety.

The Commission vote for this determination took place on April 12, 2022.

The authority for the Commission's determination is contained in section 337 of the Tariff Act of 1930, as amended, 19 U.S.C. 1337, and in Part 210 of the Commission's Rules of Practice and Procedure, 19 CFR part 210.

By order of the Commission.
Issued: April 12, 2022.
Lisa Barton,
Secretary to the Commission.

[FR Doc. 2022-08211 Filed 4-15-22; 8:45 am]

BILLING CODE 7020-02-P